DEPARTMENT OF COMMERCE

International Trade Administration

[A-401-806]

Stainless Steel Wire Rod From Sweden: Rescission of First Antidumping Duty Administrative Review

AGENCY: Import Administration, International Trade Administration, Department of Commerce.

ACTION: Notice of Rescission of the First Antidumping Duty Administrative Review.

SUMMARY: On November 4, 1999, in response to a September 30, 1999, request made by Fagersta Stainless AB, a producer/exporter of stainless steel wire rod from Sweden, the Department of Commerce published the initiation of an administrative review of the antidumping duty order on stainless steel wire rod from Sweden, covering the period March 5, 1998 through August 31, 1999. This review has now been rescinded as a result of the timely withdrawal of the request for review by Fagersta Stainless AB.

EFFECTIVE DATE: January 18, 2000.

FOR FURTHER INFORMATION CONTACT: Brian Smith or Terre Keaton, AD/CVD Enforcement, Import Administration, International Trade Administration, U.S. Department of Commerce, 14th Street & Constitution Avenue, NW, Washington, DC 20230, telephone: (202) 482-1766 and (202) 482-1280, respectively.

SUPPLEMENTARY INFORMATION: Unless otherwise indicated, all citations to the statute are references to the provisions effective January 1, 1995, the effective date of the amendments made to the Tariff Act of 1930 (“the Act”) by the Uruguay Round Agreements Act. In addition, unless otherwise indicated, all citations to the Department of Commerce's (“the Department's”) regulations refer to 19 CFR part 351 (1999).

Background

On September 15, 1998, the Department published an antidumping duty order on stainless steel wire rod from Sweden (63 FR 49329). On September 30, 1999, the above-mentioned producer/exporter requested an administrative review of the antidumping duty order on stainless steel wire rod from Sweden covering the period of March 5, 1998, through August 31, 1999. In accordance with 19 CFR 351.221(c)(1)(i), we published the initiation of the review on November 4, 1999 (64 FR 60161). On December 22, 1999, Fagersta Stainless AB (“Fagersta”) withdrew its request for review.

Rescission of Review

The Department's regulations at 19 CFR 351.213(d)(1) provide that the Department may rescind an administrative review if a party that requested a review withdraws the request within 90 days of the date of publication of the notice of initiation of the requested review. Fagersta withdrew its request for an administrative review on December 22, 1999, which is within the 90-day deadline.

Therefore, the Department has determined to grant the request to rescind this administrative review with respect to Fagersta.

This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This determination is issued and published in accordance with sections 751(a)(1) and 777(i)(1) of the Tariff Act of 1930, as amended.

Dated: January 11, 2000.
Richard W. Moreland,
Deputy Assistant Secretary for Import Administration.

[FR Doc. 00-1100 Filed 1-14-00; 8:45 am]

BILLING CODE 3510-DS-P